DEPARTMENT OF HOMELAND SECURITY

Office of the Chief Information Officer; Proposed Collection; Comment Request

ACTION: Notice and request for comments.

SUMMARY: The Department of Homeland Security (DHS), as part of its continuing effort to reduce paperwork and respondent burden, invites the general public and other Federal agencies to take this opportunity to comment on proposed and/or continuing information collections, as required by the Paperwork Reduction Act of 1995, Pub. L. 104-13 (44 U.S.C. 3506(c)(2)(A)). The Office of the Chief Procurement Officer is soliciting comments concerning a proposed new collection, Post-Contract Award Information.

DATES: Written comments should be received on or before January 20, 2004 to be assured of consideration.

ADDRESSES: Direct all written comments to the Department of Homeland Security, Office of the Chief Procurement Officer, Acquisition Policy and Oversight, Attn: Angelie Jackson, 245 Murray Drive, Bldg. 410 (RDS), and Washington, DC 20528. Direct e-mail to acquisition@dhs.gov, and reference the information collection for post-award documents. Comments should also be submitted to the Office of Information and Regulatory Affairs, OMB, Attention: Desk Officer for the Department of Homeland Security.

FOR FURTHER INFORMATION CONTACT: Requests for additional information or copies of the form(s) and instructions should be directed to the Department of Homeland Security, Office of the Chief Procurement Officer, Acquisition Policy and Oversight, Attn: Angelie Jackson, 245 Murray Drive, Bldg. 410 (RDS), Washington, DC 20528; (202) 692-4211. Direct e-mail to acquisition@dhs.gov, and reference the information collection for post-award documents.

SUPPLEMENTARY INFORMATION: Title: Post-Contract Award Information.

• This date is entered by the Office of the Federal Register's Scheduling Office.

Abstract: This notice provides a request to include a designated OMB Control Number on information requested from contractors. The information requested is specific to each contract, and is required for DHS, including its Organizational Elements to evaluate properly the progress made and/or management controls used by contractors providing supplies or services to the Government and to determine contractors' compliance with the contracts, in order to protect the Government's interest.

Current Actions: New Submission.

Type of Review: New collection.

Affected Public: Businesses and individuals contracting with the DHS.

Estimated Number of Respondents: 5,574.

Estimated Time per Respondent: 14 hours.

Estimated Total Annual Burden Hours: 78,036.

Request for Comments:

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Steve Cooper,
Chief Information Officer.

[FR Doc. 03-29049 Filed 11-19-03; 8:45 am]

BILLING CODE 4410-10-P